DEPARTMENT OF TRANSPORTATION

Federal Aviation Administration

14 CFR Part 71

[Docket No. FAA-2003-15077; Airspace Docket No. 03-ACE-45]

Modification of Class E Airspace; Pocahontas, IA

AGENCY: Federal Aviation Administration (FAA), DOT.

ACTION: Direct final rule; request for comments; correction.

SUMMARY: This action corrects a direct final rule; request for comments that was published in the Federal Register on Friday, May 23, 2003, (68 FR 28121) [FR Doc. 03-13047]. It corrects an error in the dimension and legal description of the Pocahontas, IA Class E airspace area.

DATES: This direct final rule is effective on 0901 UTC, September 4, 2003.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

Federal Register document 03-13047, published on Friday, May 23, 2003, (68 FR 28121) modified Class E airspace at Pocahontas, IA. The modification was to correct the Pocahontas Municipal Airport, IA airport reference point used in the legal description of the Pocahontas, IA Class E airspace area and to bring the airspace area into compliance with FAA Order 7400.2E, Procedures for handling Airspace Matters. The information published, however, did not correct a previous error in the volume of Class E airspace necessary at Pocahontas, IA and did not bring the airspace area into compliance with the order. This action rectifies the oversight and does bring the Pocahontas, IA Class E airspace into compliance with FAA Order 7400.2E.

Accordingly, pursuant to the authority delegated to me, the Pocahontas, IA Class E airspace, as published in the Federal Register on Friday, May 23, 2003, (68 FR 28121), [FR Doc. 03-13047] is corrected as follows:

§ 71.1 [Corrected]

On page 28122, Column 1, last paragraph, second and fifth lines from bottom, change “6-mile radius” to read “6.4-mile radius.”

Issued in Kansas City, MO, on July 1, 2003.
Herman J. Lyons, Jr.,
Manager, Air Traffic Division, Central Region.

[FR Doc. 03-17764 Filed 7-14-03; 8:45 am]

BILLING CODE 4910-13-M